DEPARTMENT OF HOMELAND SECURITY

U.S. Customs and Border Protection

Approval of Barrios Measurement Services LLC, as a Commercial Gauger

AGENCY: U.S. Customs and Border Protection, Department of Homeland Security.

ACTION: Notice of approval of Barrios Measurement Services LLC, as a commercial gauger.

SUMMARY: Notice is hereby given, pursuant to CBP regulations, that Barrios Measurement Services LLC, has been approved to gauge petroleum and petroleum products for customs purposes for the next three years as of March 31, 2016.

DATES: Effective Dates: The approval of Barrios Measurement Services LLC, as commercial gauger became effective on March 31, 2016. The next triennial inspection date will be scheduled for March 2019.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.13, that Barrios Measurement Services LLC, 228 West 133rd St., Cut Off, LA 70345, has been approved to gauge petroleum and petroleum products for customs purposes, in accordance with the provisions of 19 CFR 151.13. Barrios Measurement Services LLC, is approved for the following gauging procedures for petroleum and certain petroleum products set forth by the American Petroleum Institute (API):

API chapters | Title
8.2 | Standard Practice for Automatic Sampling of Liquid Petroleum and Petroleum Products.
8.3 | Standard Practice for Mixing and Handling of Liquid Samples of Petroleum and Petroleum products.

Anyone wishing to employ this entity to conduct gauger services should request and receive written assurances from the entity that it is accredited or approved by the U.S. Customs and Border Protection to conduct the specific gauger service requested. Alternatively, inquiries regarding the specific gauger service this entity is accredited or approved to perform may be directed to the U.S. Customs and Border Protection by calling (202) 344-1060. The inquiry may also be sent to cbp.labhq@dhs.gov. Please reference the Web site listed below for a complete listing of CBP approved gaugers and accredited laboratories. http://www.cbp.gov/about/labs-scientific/commercial-gaugers-and-laboratories.

Dated: July 11, 2016.
Ira S. Reese,
Executive Director, Laboratories and Scientific Services Directorate.

[FR Doc. 2016-17004 Filed 7-18-16; 8:45 am]

BILLING CODE 9111-14-P